DEPARTMENT OF HEALTH AND HUMAN SERVICES

National Institutes of Health

Center for Scientific Review; Amended Notice of Meeting

Notice is hereby given of a change in the meeting of the Center for Scientific Review Special Emphasis Panel, July 28, 2010, 8 a.m. to July 30, 2010, 2 p.m., National Institutes of Health, 6701 Rockledge Drive, Bethesda, MD 20892 which was published in the Federal Register on June 15, 2010, 75 FR 33816.

The meeting will be held July 27, 2010 to July 28, 2010. The meeting time and location remain the same. The meeting is closed to the public.

Dated: July 15, 2010.
Jennifer Spaeth,
Director, Office of Federal Advisory Committee Policy.

[FR Doc. 2010-17861 Filed 7-20-10; 8:45 am]

BILLING CODE 4140-01-P